DEPARTMENT OF ENERGY

Federal Energy Regulatory Commission

[Project No. 11690-001, Alaska]

Alaska Village Electric Cooperative, Inc.; Notice of Availability of Final Environmental Assessment

June 26, 2000.

In accordance with the National Environmental Policy Act of 1969 and the Federal Energy Regulatory Commission's (Commission) regulations, 18 CFR Part 380 (Order No. 486, 52 FR 47897), the Office of Energy Projects has reviewed the application for an original license for the Alaska Village Electric Cooperative, Inc.'s (AVEC) proposed Old Harbor Hydroelectric Project, and has prepared a Final Environmental Assessment (FEA). The project would be located near the city of Old Harbor, Alaska on Kodiak Island, predominantly on the Kodiak National Wildlife Refuge.

On January 19, 2000, the Commission staff issued a draft environmental assessment (DEA) for the project and requested that comments be filed with the Commission within 45 days. Comments on the DEA were filed by the National Marine Fisheries Service, Alaska Department of Fish and Game and polarconsult alaska, inc and are addressed in the FEA.

The FEA contains the staff's analysis of the potential environmental impacts of the project and concludes that licensing the project, with appropriate environmental protective measures, would not constitute a major federal action that would significantly affect the quality of the human environment.

Copies of the FEA are available for review in the Commission's Public Reference Room, Room 2A, at 888 First Street, N.E., Washington, D.C. 20426, and may also be viewed on the web at http:///www.ferc.fed.us/online/rims.htm (please call (202) 208-2222 for assistance).

David P. Boergers,
Secretary.

[FR Doc. 00-16570 Filed 6-29-00; 8:45 am]

BILLING CODE 6717-01-M